DEPARTMENT OF TRANSPORTATION

Federal Aviation Administration

14 CFR Part 39

[Docket No. FAA-2011-0687; Directorate Identifier 2011-CE-017-AD; Amendment 39-16833; AD 2011-21-10]

RIN 2120-AA64

Airworthiness Directives; Diamond Aircraft Industries GmbH Airplanes With Supplemental Type Certificate (STC) SA03674AT

AGENCY: Federal Aviation Administration (FAA), Department of Transportation (DOT).

ACTION: Final rule.

SUMMARY: We are adopting a new airworthiness directive (AD) for Diamond Aircraft Industries GmbH Model (Diamond) DA 40 airplanes equipped with cabin air conditioning vapor cycle system (VCS) installed per STC SA03674AT held by Premier Aircraft Services (originally held by DER Services, Inc.) following DER Services Master Document List MDL-2006-020-1, Revision C, dated February 3, 2009; Revision D, dated April 22, 2009; Revision E, dated May 12, 2010; or Revision F, dated July 6, 2010. This AD was prompted by reports of damage around the VCS compressor mounting areas found during maintenance inspections. This AD requires deactivation of the VCS, removal of the compressor and bracket, and revision to the airplane weight and balance. We are issuing this AD to correct the unsafe condition on these products.

DATES: This AD is effective November 16, 2011.

The Director of the Federal Register approved the incorporation by reference of certain publications listed in the AD as of November 16, 2011.

ADDRESSES: For service information identified in this AD, contact Premier Aircraft Service, 5540 NW 23 Avenue Hangar 14, Ft. Lauderdale, FL 33309, telephone: (954) 771-0411; fax: (954) 334-1489; Internet: http://www.flypas.com. You may review copies of the referenced service information at the FAA, Small Airplane Directorate, 901 Locust St., Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Hal Horsburgh, Aerospace Engineer, FAA, Atlanta Aircraft Certification Office, 1701 Columbia Avenue, College Park, Georgia 30337; telephone: (404) 474-5553; fax: (404) 474-5606; e-mail: hal.horsburgh@faa.gov.

SUPPLEMENTARY INFORMATION:

Discussion

We issued a notice of proposed rulemaking (NPRM) to amend 14 CFR part 39 to include an AD that would apply to the specified products. That NPRM published in the Federal Register on June 28, 2011 (76 FR 37684). That NPRM proposed to require removal of the VCS mount, which could result in the air conditioner compressor disconnecting in the engine compartment. This condition could result in engine stoppage or additional damage to the engine.

Comments

We gave the public the opportunity to participate in developing this AD. We received no comments on the NPRM (76 FR 37684, June 28, 2011) or on the determination of the cost to the public.

Conclusion

We reviewed the relevant data and determined that air safety and the public interest require adopting the AD as proposed except for minor editorial changes and the addition of an optional terminating action after the compressor is removed which will allow for the reinstallation and reactivation of the air conditioning system. We have determined that these minor changes:

• Are consistent with the intent that was proposed in the NPRM (76 FR 37684, June 28, 2011) for correcting the unsafe condition; and

• Do not add any additional burden upon the public than was already proposed in the NPRM.

Costs of Compliance

We estimate that this AD affects 11 airplanes of U.S. registry.

We estimate the following costs to comply with this AD:

Estimated Costs
Action | Labor cost | Parts cost | Cost per product | Cost on U.S. operators
Remove the VCS compressor, deactivate system, and revise weight and balance | 3 work-hours × $85 per hour = $255 | Not applicable | $255 | $2,805

According to the manufacturer, all of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-21-10 Diamond Aircraft Industries GmbH Airplanes Equipped With Supplemental Type Certificate (STC) SA03674AT: Amendment 39-16833; Docket No. FAA-2011-0687; Directorate Identifier 2011-CE-017-AD.

(a) Effective Date

This AD is effective November 16, 2011.

(b) Affected ADs

None.

(c) Applicability

This AD applies to Diamond Aircraft Industries GmbH Model DA 40 airplanes, all serial numbers, that:

(1) Are equipped with vapor cycle system (VCS) cabin air conditioning installed per Premier Aircraft Service STC SA03674AT following DER Services Master Document List MDL-2006-020-1, Revision C, dated February 3, 2009; Revision D, dated April 22, 2009; Revision E, dated May 12, 2010; or Revision F, dated July 6, 2010; and

(2) are certificated in any category.

(d) Subject

Joint Aircraft System Component (JASC) Code 2150, Cabin Cooling System.

(e) Unsafe Condition

This AD was prompted by reports of damage around the VCS compressor mounting area found during maintenance inspections. We are issuing this AD to remove the VCS compressor and mount, as a result of excessive wear, which could result in the air conditioner compressor disconnecting in the engine compartment. This condition could result in engine stoppage or additional damage to the engine.

(f) Compliance

Comply with this AD within the compliance times specified, unless already done.

(g) Required Actions

Within the next 100 hours time-in-service after installation of the VCS installed per STC SA03674AT held by Premier Aircraft Service (originally held by DER Services, Inc.) following DER Services Master Document List MDL-2006-020-1, Revision C, dated February 3, 2009; Revision D, dated April 22, 2009; Revision E, dated May 12, 2010; or Revision F, dated July 6, 2010, or within 30 days after November 16, 2011 (the effective date of this AD), whichever occurs later, do the following actions following Premier Aircraft Service Work Instruction PAS-WI-MSB-40-2011-001, dated March 4, 2011; and Premier Aircraft Service Mandatory Service Bulletin No. PAS-MSB-40-2011-001, dated March 4, 2011:

(1) Deactivate the VCS system.

(2) Pull and collar the compressor breaker and place a placard above the breaker stating “INOP.”

(3) Remove the VCS compressor and associated mounting hardware.

(4) Revise the airplane weight and balance.

(h) Optional Actions

If all actions in paragraphs (g)(1), (g)(2), (g)(3), and (g)(4) of this AD have been completed, an optional terminating action allows you to reinstall the VCS compressor and reactivate the air conditioning system following Premier Aircraft Service Service Bulletin No. PAS-SB-40-2011-002, dated August 18, 2011; Seamech International Inc. Vapor Cycle Air Conditioning with Automatic Climate Control Instructions for Continued Airworthiness, ASI-772216A, Revision G, dated August 9, 2011; Seamech International Inc. Kit Compressor Mounting, Drawing SII 2216155, Revision D, dated July 21, 2011; and DER Services Installation Instructions Engineering Order EO-2006-020-1, Revision F, dated August 18, 2011.

(i) Special Flight Permit

The compressor drive belt must be cut and removed before the airplane may be moved for one ferry flight to an approved repair facility to comply with the remainder of this AD.

(j) Alternative Methods of Compliance (AMOCs)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(k) Related Information

For more information about this AD, contact Hal Horsburgh, Aerospace Engineer, FAA, Atlanta ACO, 1701 Columbia Avenue, College Park, Georgia 30337; telephone: (404) 474-5553; fax: (404) 474-5606; e-mail: hal.horsburgh@faa.gov.

(l) Material Incorporated by Reference

(1) You must use the following service information to do the actions required by this AD, unless the AD specifies otherwise. The Director of the Federal Register approved the incorporation by reference (IBR) under 5 U.S.C. 552(a) and 1 CFR part 51 of the following service information on November 16, 2011:

(i) Premier Aircraft Service Work Instruction PAS-WI-MSB-40-2011-001, dated March 4, 2011; and

(ii) Premier Aircraft Service Mandatory Service Bulletin No. PAS-MSB-40-2011-001, dated March 4, 2011.

(2) If you accomplish the optional actions specified by this AD, you must use the following service information to perform those actions. The Director of the Federal Register approved the incorporation by reference (IBR) of the following service information on November 16, 2011:

(i) Premier Aircraft Service Service Bulletin No. PAS-SB-40-2011-002, dated August 18, 2011;

(ii) Seamech International Inc. Vapor Cycle Air Conditioning with Automatic Climate Control Instructions for Continued Airworthiness, ASI-772216A, Revision G, dated August 9, 2011;

(iii) Seamech International Inc. Kit Compressor Mounting, Drawing SII 2216155, Revision D, dated July 21, 2011;

(iv) DER Services Installation Instructions Engineering Order EO-2006-020-1, Revision F, dated August 18, 2011.

(3) For service information identified in this AD, contact Premier Aircraft Service, 5540 NW 23 Avenue Hangar 14, Ft. Lauderdale, FL 33309, telephone: (954) 771-0411; fax: (954) 334-1489; Internet: http://www.flypas.com.

(4) You may review copies of the referenced service information at the FAA, Small Airplane Directorate, 901 Locust, Kansas City, Missouri 64106. For information on the availability of this material at the FAA, call (816) 329-4148.

(5) You may also review copies of the service information that is incorporated by reference at the National Archives and Records Administration (NARA). For information on the availability of this material at an NARA facility, call 202-741-6030, or go to http://www.archives.gov/federal_register/code_of_federal_regulations/ibr_locations.html.

Issued in Kansas City, Missouri, on October 3, 2011.
Earl Lawrence,
Manager, Small Airplane Directorate, Aircraft Certification Service.

[FR Doc. 2011-26001 Filed 10-11-11; 8:45 am]

BILLING CODE 4910-13-P